DEPARTMENT OF COMMERCE

International Trade Administration

[C-570-938]

Citric Acid and Certain Citrate Salts From the People's Republic of China: Rescission, in Part, of 2013 Countervailing Duty Administrative Review

AGENCY: Enforcement and Compliance, International Trade Administration, Department of Commerce.

DATES: Effective Date: January 8, 2015.

FOR FURTHER INFORMATION CONTACT: Elizabeth Eastwood, AD/CVD Operations, Office II, Enforcement and Compliance, International Trade Administration, U.S. Department of Commerce, 14th Street and Constitution Avenue NW., Washington, DC 20230; telephone: (202) 482-3874.

Background

On May 29, 2009, the Department of Commerce (Department) published in the Federal Register the countervailing duty order on citric acid and certain citrate salts, from the People's Republic of China (PRC).¹ On May 1, 2014, the Department published a notice of opportunity to request an administrative review of the countervailing duty order on citric acid and certain citrate salts covering the period January 1, 2013, through December 31, 2013.² The Department received a timely request for a countervailing duty administrative review from RZBC Co. Ltd., RZBC Imp. & Exp. Co., Ltd., and RZBC (Juxian) Co., Ltd. (collectively, “RZBC”). Additionally, the Department received a timely request for review from the petitioners ³ for the following companies: (1) Changsha Huir Biological-Tech Co., Ltd. (Changsha Huir); (2) Huangshi Xinghua Biochemical Co., Ltd. (Huangshi Xinghua); (3) Hunan Dongting Pharmaceutical Co., Ltd. (Hunan Dongting); (4) Jiali Bio Group (Qingdao) Co., Ltd. (Jiali Bio Group); (5) Juxian Hongde Citric Acid Co., Ltd. (Juxian Hongde); (6) Laiwu Taihe Biochemistry Co. Ltd. (Laiwu Taihe); (7) Lianyungang Debang Fine Chemical Co., Ltd. (Lianyungang Debang); (8) Lianyungang Dongtai Food Ingredients Co., Ltd. (Lianyungang Dongtai); (9) Lianyungang Hengsheng Fine Chemical Co., Ltd. (Lianyungang Hengsheng); (10) Lianyungang Yunbo Chemical Co., Ltd. (Lianyungang Yunbo); (11) Lianyungang Zhengrong Food Additive Factory (Lianyungang Zhengrong); (12) Nantong Feiyu Fine Chemical Co., Ltd. (Nantong Feiyu); (13) Ningxiang Xinyang Chemical Co., Ltd. (Ningxiang Xingyang); (14) Penglai Marine Bio-Tech Co., Ltd. (Penglai Marine Bio-Tech); (15) Qingdao Fuso Refining & Processing Co., Ltd. (Qingdao Fuso); (16) Reephos Chemical Co., Ltd. (Reephos Chemical); (17) Rugao Jiangbei Additive Co., Ltd. (Rugao Jiangbei); (18) RZBC Group Shareholding Co., Ltd. (RZBC Group) and RZBC; (19) Shandong Hongshide Chemical Co., Ltd. (Shandong Hongshide); (20) Shandong TTCA Biochemistry Co., Ltd. (Shandong TTCA); (21) Shihezi City Changyum Biochemical Co., Ltd. (Shihezi City Changyum); (22) Weifang Ensign Industry Co., Ltd. (Weifang Ensign); (23) Wuhan Shuangfeng Citric Acid Co., Ltd. (Wuhan Shuangfeng); (24) Yixing Union Biochemical Co., Ltd. (Yixing Union); (25) Yixing Zhenfen Medical Chemical Co., Ltd. (Yixing Zhenfen); and (26) Yunnan No. 2 Fuel Factory (Yunnan Fuel).

¹ See Citric Acid and Certain Citrate Salts From the People's Republic of China: Notice of Countervailing Duty Order, 74 FR 25705 (May 29, 2009).

² See Antidumping or Countervailing Duty Order, Finding, or Suspended Investigation; Opportunity To Request Administrative Review, 79 FR 24670 (May 1, 2014).

³ The petitioners in this administrative review are the Archer Daniels Midland Company, Cargill, Incorporated, and Tate & Lyle Ingredients Americas LLC.

On June 27, 2014, in accordance with section 751(a) of the Tariff Act of 1930, as amended (the Act), the Department published in the Federal Register a notice of initiation of administrative review with respect to these companies.⁴ On July 14, 2014, RZBC withdrew their request for an administrative review. In addition, on August 6, 2014, the petitioners withdrew their request for an administrative review for all of the above-listed companies except Laiwu Taihe.

⁴ See Initiation of Antidumping and Countervailing Duty Administrative Reviews, 79 FR 36462 (June 27, 2014).

Rescission, In Part

Pursuant to 19 CFR 351.213(d)(1), the Secretary will rescind an administrative review, in whole or in part, if a party that requested the review withdraws the request within 90 days of the date of publication of the notice of initiation of the requested review. The petitioners' and RZBC's withdrawal of their requests were submitted within the 90-day period and, thus, are timely. Because the petitioners' and RZBC's withdrawal of their requests for review are timely and because no other party requested a review of these companies, in accordance with 19 CFR 351.213(d)(1), we are rescinding this administrative review, in part, with respect to the following companies: Changsha Huir, Huangshi Xinghua, Hunan Dongting, Jiali Bio Group, Juxian Hongde, Lianyungang Debang, Lianyungang Dongtai, Lianyungang Hengsheng, Lianyungang Yunbo, Lianyungang Zhengrong, Nantong Feiyu, Ningxiang Xinyang, Penglai Marine Bio-Tech, Qingdao Fuso, Reephos Chemical, Rugao Jiangbei, RZBC Group and RZBC, Shandong Hongshide, Shandong TTCA, Shihezi City Changyum, Weifang Ensign, Wuhan Shuangfeng, Yixing Union, Yixing Zhenfen, and Yunnan Fuel. The administrative review will continue with respect to Laiwu Taihe.

Assessment

The Department will instruct U.S. Customs and Border Protection (CBP) to assess countervailing duties on all appropriate entries. For the companies for which this review is rescinded, countervailing duties shall be assessed at rates equal to the cash deposit of estimated countervailing duties required at the time of entry, or withdrawal from warehouse, for consumption, during the period January 1, 2013, through December 31, 2013, in accordance with 19 CFR 351.212(c)(1)(i). The Department intends to issue appropriate assessment instructions to CBP 15 days after publication of this notice.

Notification Regarding Administrative Protective Orders

This notice also serves as a reminder to parties subject to administrative protective order (APO) of their responsibility concerning the return or destruction of proprietary information disclosed under APO in accordance with 19 CFR 351.305, which continues to govern business proprietary information in this segment of the proceeding. Timely written notification of the return/destruction of APO materials or conversion to judicial protective order is hereby requested. Failure to comply with the regulations and terms of an APO is a violation which is subject to sanction.

This notice is issued and published in accordance with sections 751 and 777(i)(1) of the Act, and 19 CFR 351.213(d)(4).

Dated: January 5, 2015.
Christian Marsh,
Deputy Assistant Secretary for Antidumping and Countervailing Duty Operations.

[FR Doc. 2015-00113 Filed 1-7-15; 8:45 am]

BILLING CODE 3510-DS-P